DEPARTMENT OF ENERGY

Federal Energy Regulatory Commission

[Docket No. RP97-406-023]

Dominion Transmission, Inc; Notice of Proposed Changes in FERC Gas Tariff

July 7, 2000.

Take notice that on June 30, 2000, Dominion Transmission, Inc. (Dominion), formerly CNG Transmission Corporation, filed revised pro forma tariff sheets listed below to be part of its FERC Gas Tariff, Second Revised Volume No. 1, in order to implement fully unbundled gathering and extraction rates, and to reflect the effects of that unbundling on transportation service rates.

The work papers supporting the methodology by which the Company arrived at the proposed fully unbundled gathering and products extraction rates were included in the filing. The fully unbundled rates and the tariff sheets implementing those rates are to become effective January 1, 2001.

Pro Forma Sheet No. 31

Pro Forma Sheet No. 32

Pro Forma Sheet No. 34

Pro Forma Sheet No. 37

Pro Forma Sheet No. 107

Pro Forma Sheet No. 107A

Pro Forma Sheet No. 120

Pro Forma Sheet No. 120A

Pro Forma Sheet No. 135

Pro Forma Sheet No. 136

Pro Forma Sheet No. 136A

Pro Forma Sheet No. 319

Pro Forma Sheet No. 351

Pro Forma Sheet No. 353A

Pro Forma Sheet No. 354

Pro Forma Sheet No. 364A

Dominion states that the purpose of this filing is to place on file fully unbundled gathering and extraction rates in accordance with Article IV of Dominion's August 31, 1998 rate case Stipulation and Agreement in Docket No. RP97-406-000 as approved by the Commission. 85 FERC ¶ 61,261 (1998).

Dominion states that copies of its filing have been served on Dominion's customers and interested state commissions.

Any person desiring to protest this filing should file a protest with the Federal Energy Regulatory Commission, 888 First Street, N.E., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-17737 Filed 7-12-00; 8:45 am]

BILLING CODE 6717-01-M